SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 29, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

SUPPLEMENTARY INFORMATION:

Copies: You may obtain a copy of the information collection and supporting documents from the Agency Clearance Officer.

In recognition of the small business community's contributions to the nation's economy, the President of the United States designates one week each year as Small Business Week. As part of that week's activities the Small Business Administration (SBA) issues recognition awards to various small business owners, entrepreneurs and advocates. Award nominees and nominators submit this information to SBA for use in evaluating their eligibility for an award, verifying accuracy of information submitted, and determining whether there are any actual or potential conflicts of interest.

Summary of Information Collections

Title: Small Business Administration Award Nomination.

Description of Respondents: Small Business Owners and Advocates who have been nominated for an SBA recognition award.

Form Number: 3300-3314.

Estimated Annual Responses: 600.

Estimated Annual Hour Burden: 900.

Curtis Rich,
Management Analyst.

[FR Doc. 2020-21451 Filed 9-28-20; 8:45 am]

BILLING CODE 8026-03-P